FEDERAL RESERVE SYSTEM

Formations of, Acquisitions by, and Mergers of Bank Holding Companies; Correction

This notice corrects a notice (FR Doc. 01-28713) published on page 57718 of the issue for Friday, November 16, 2001.

Under the Federal Reserve Bank of Kansas City heading, the entry for First National Bancshares, Inc., Goodland, Kansas, is revised to read as follows:

A. Federal Reserve Bank of Kansas City (Susan Zubradt, Assistant Vice President) 925 Grand Avenue, Kansas City, Missouri 64198-0001:

1. First National Bancshares, Inc., ESOP and 401 (K) Trusts, and First National Bancshares, Inc., both of Goodland, Kansas; to acquire 86.4 percent of the voting shares of Security State Bank, Bird City, Kansas.

Comments on this application must be received by December 10, 2001.

Board of Governors of the Federal Reserve System, November 27, 2001.
Margaret McCloskey Shanks,
Assistant Secretary of the Board.

[FR Doc. 01-29846 Filed 11-30-01 8:45 am]

BILLING CODE 6210-01-S